DEPARTMENT OF THE INTERIOR

Bureau of Reclamation

[XXXR0680R1 RR.R0336A1R5WRMP01.03 RR01113000]

Notice of Intent To Prepare an Environmental Impact Statement and Public Scoping Meetings for the Keechelus Reservoir-to-Kachess Reservoir Conveyance and Kachess Inactive Storage, Yakima River Basin Water Enhancement Project, Integrated Water Resource Management Plan, Kittitas County, Washington

AGENCY: Bureau of Reclamation, Interior.

ACTION: Notice.

SUMMARY: The Bureau of Reclamation intends to prepare an Environmental Impact Statement (EIS) for the Keechelus Reservoir-to-Kachess Reservoir Conveyance and the Kachess Reservoir Inactive Storage projects. The Washington State Department of Ecology will be a joint lead agency with the Bureau of Reclamation in the preparation of this EIS. The Bureau of Reclamation is requesting public comment and agency input to identify significant issues or other alternatives to be addressed in the EIS.

DATES: Submit written comments on the scope of the EIS on or before December 16, 2013.

Two scoping meetings, combined with open houses each day, will be held on the following dates and times:

• November 20, 2013, 1:30 p.m. to 3:30 p.m., and 5:00 p.m. to 7:00 p.m., Yakima, WA.

• November 21, 2013, 1:30 p.m. to 3:30 p.m., and 5:00 p.m. to 7:00 p.m., Cle Elum, WA.

ADDRESSES: Send written scoping comments, requests to be added to the mailing list, or requests for sign language interpretation for the hearing impaired or other special assistance needs to Ms. Candace McKinley, Environmental Program Manager, Bureau of Reclamation, Columbia-Cascades Area Office, 1917 Marsh Road, Yakima, WA 98901; or email yrbwep@usbr.gov.

The scoping meetings and open houses will be located at:

• Yakima—Yakima Area Arboretum, 1401 Arboretum Way, Yakima, WA 98901.

• Cle Elum—U.S. Forest Service (Cle Elum Ranger District Conference Room), 803 W 2nd Street, Cle Elum, WA 98922.

FOR FURTHER INFORMATION CONTACT: Ms. Candace McKinley, Bureau of Reclamation, Columbia-Cascades Area Office, 1917 Marsh Road, Yakima, WA 98901; telephone (509) 575-5848, ext. 232; facsimile (509) 454-5650; email yrbwep@usbr.gov. Persons who use a telecommunications device for the deaf may call the Federal Relay Service (FedRelay) at 1-800-877-8339 TTY/ASCII to contact the above individual during normal business hours. The FedRelay is available 24 hours a day, 7 days a week, to leave a message or question with the above individual. You will receive a reply during normal business hours. Information on this project may also be found at: http://www.usbr.gov/pn/programs/yrbwep/index.html.

SUPPLEMENTARY INFORMATION: The Bureau of Reclamation (Reclamation) is issuing this notice pursuant to the National Environmental Policy Act of 1969, as amended (NEPA), 42 U.S.C. 4321 et seq.; the Council on Environmental Quality's (CEQ) regulations for implementing NEPA, 43 CFR Parts 1500 through 1508; the Department of the Interior's NEPA regulations, 43 CFR Part 46, and the Washington State Environmental Policy Act.

Background

On July 9, 2013, the Record of Decision (ROD) for the Final Programmatic EIS (PEIS) for the Yakima River Basin Integrated Water Resource Management Plan (Integrated Plan) was signed. In the ROD, the Reclamation selected the Integrated Plan Alternative for implementation. The Integrated Plan Alternative is comprised of seven elements which were considered in the PEIS:

1. Reservoir Fish Passage;

2. Structural and Operational Changes;

3. Surface Water Storage;

4. Groundwater Storage;

5. Habitat/Watershed Protection and Enhancement;

6. Enhanced Water Conservation; and

7. Market Reallocation of Water Resources.

As described in the PEIS, Reclamation and the Washington State Department of Ecology (Ecology) will complete project-level, site-specific environmental review for actions within the Integrated Plan once the agencies are ready to move forward each action or groups of actions. For instance, with regard to the present NOI, Reclamation and Ecology have determined that it is appropriate to initiate the environmental review process with regard to the Keechelus Reservoir-to-Kachess Reservoir Conveyance and Kachess Reservoir Inactive Storage projects.

These actions were previously evaluated at a programmatic level of analysis in the Integrated Plan PEIS (see chapters 2 through 5 of the PEIS available at: http://www.usbr.gov/pn/programs/yrbwep/reports/FPEIS/fpeis.pdf). That PEIS examined the effects of the overall Integrated Plan Alternative, which included the Keechelus Reservoir-to-Kachess Reservoir Conveyance and the Kachess Reservoir Inactive Storage projects. Now the agencies will prepare a project-level EIS for the Keechelus Reservoir-to-Kachess Reservoir Conveyance and the Kachess Reservoir Interactive Storage projects and will tier to the Integrated Plan PEIS as provided for in the Council on Environmental Quality Regulations (40 CFR 1502.20, Tiering). The project-level environmental analysis to be conducted in this EIS will expand upon and add detail to those analyses already completed in the Integrated Plan PEIS.

The proposed, site specific actions to be evaluated in the Keechelus Reservoir-to-Kachess Reservoir Conveyance and Kachess Reservoir Inactive Storage EIS are:

1. Transfer water through a tunnel from the Keechelus watershed to Kachess Reservoir. Two alternatives have been identified for a tunnel to convey water from Keechelus watershed to Kachess Reservoir. One would include construction of a new outlet works at the north end of Keechelus Dam connecting to a 10-12 foot-diameter, 3.7-mile-long, gravity flow tunnel. The other would include construction of a diversion structure on the Yakima River about 8,000 feet downstream of Keechelus Dam, connecting to a 10-12 foot-diameter, 3.2-mile-long, gravity flow tunnel. Both tunnel alternatives would discharge into Kachess Reservoir through a new structure located on the west shore; and

2. Release an additional 200,000 acre-feet of water from Kachess Reservoir during severe droughts by accessing inactive storage through additional outlet facilities. A substantial volume of water stored in Kachess Reservoir is currently inaccessible because it is below the elevation of the outlet works. This is referred to as inactive storage. An alternative being considered to access the inactive storage in Kachess Reservoir includes a new outlet works at a lower elevation in the reservoir connected by a tunnel to a pump station that would discharge to the Kachess River.

The objectives of these proposed actions are to increase the total water supply available from the Keechelus watershed for irrigation and instream flow, provide additional water for proratable irrigation districts during severe drought conditions, and create more normal flows in the upper Yakima River between Keechelus Dam and Lake Easton to improve fish habitat.

At this time, there are no known Indian Trust Assets or environmental justice issues associated with the Proposed Actions.

Special Assistance for Public Scoping and Open House Meetings

If special assistance is required to participate in the public scoping and open house meetings, please contact Ms. Candace McKinley, Bureau of Reclamation, Columbia-Cascades Area Office, 1917 Marsh Road, Yakima, WA 98901; telephone (509) 575-5848, ext. 232; facsimile (509) 454-5650; email yrbwep@usbr.gov. Persons who use a telecommunications device for the deaf may call the Federal Relay Service (FedRelay) at 1-800-877-8339 TTY/ASCII to contact the above individual during normal business hours. The FedRelay is available 24 hours a day, 7 days a week, to leave a message or question with the above individual. You will receive a reply during normal business hours. All meeting facilities are physically accessible to people with disabilities.

Public Disclosure

Before including your address, phone number, email address, or other personal identifying information in your comment, you should be aware that your entire comment—including your personal identifying information—may be made publicly available at any time. While you may ask us in your comment to withhold your personal identifying information from public review, we cannot guarantee that we will be able to do so.

Dated: October 24, 2013.
Lorri J. Lee,
Regional Director, Pacific Northwest Region.

[FR Doc. 2013-25689 Filed 10-29-13; 8:45 am]

BILLING CODE 4310-MN-P